ENVIRONMENTAL PROTECTION AGENCY

[OPP-64061; FRL-6805-4]

Notice of Receipt of Requests for Amendments to Delete Uses in Certain Pesticide Registrations

AGENCY: Environmental Protection Agency (EPA).

ACTION: Notice.

SUMMARY: In accordance with section 6(f)(1) of the Federal Insecticide, Fungicide and Rodenticide Act (FIFRA), as amended, EPA is issuing a notice of receipt of request for amendment by registrants to delete uses in certain pesticide registrations.

DATES: Unless a request is withdrawn, the Agency will approve these use deletions and the deletions will become effective on April 22, 2002, unless indicated otherwise.

FOR FURTHER INFORMATION CONTACT: By mail: James A. Hollins, Office of Pesticide Programs (7502C), Environmental Protection Agency, Ariel Rios Building, 1200 Pennsylvania Avenue, N.W., Washington, DC 20460. Office location for commercial courier delivery, telephone number and e-mail address: Rm. 266A, Crystal Mall #2, 1921 Jefferson Davis Highway, Arlington, VA 22202, (703) 305-5761; e-mail: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional information, Including Copies of this Document and Other Related Documents?

1. Electronically. You may obtain electronic copies of this document and certain other related documents that might be available electronically, from the EPA Internet homepage at http://www.epa.gov. To access this document, on the homepage select “Laws and Regulations” “Regulations and Proposed Rules,” and then look up the entry for this document under the “Federal Register—Environmental Documents.” You can also go directly to the Federal Register listing at http://www.epa.gov/fedrgstr/.

2. In person. Contact James A. Hollins at 1921 Jefferson Davis Highway, Crystal Mall #2, Rm. 232, Arlington, VA, telephone number (703) 305-5761. Available from 7:30 a.m. to 4:45 p.m., Monday through Friday, excluding legal holidays.

II. What Action is the Agency Taking?

This notice announces receipt by the Agency of applications from registrants to delete uses in 16 pesticide registrations. These registrations are listed in the following Table 1 by registration number, product name, active ingredient and specific uses deleted:

Table 1. — Registrations with Requests for Amendments to Delete Uses in Certain Pesticide Registrations
Registration No. | Product | Chemical Name | Delete From Label
000228-00095 | Riverdale 2,4-D L.V. 6 Ester | Acetic acid, 2,4-D 2-ethylhexyl ester | Drainage ditchbanks and aquatic uses
000228-00126 | Riverdale Solution Emulsible | Acetic acid, 2,4-D 2-Ethylhexyl ester | Drainage ditchbanks and aquatic uses
000228-00139 | Riverdale 2,4-D L.V. 4 Ester | Acetic acid, 2,4-D 2-Ethylhexyl ester | Aquatic uses and sugarcane
000228-00185 | Riverdale Tri-Ester | Acetic Acid, 2,4-D 2-Ethyl Ester; Isooctyl 2-(2,4-D) propionate | Drainage ditchbanks
000264-00324 | Sevin Brand 99% Technical Carbaryl Insecticide | Carbaryl | Poultry
000264-00456 | Ethoprop Technical | Ethoprop | Peanuts, citrus seedlings, commercial and golf course turf
000264-00457 | MOCAP 15% Nematicide-Insecticide | Ethoprop | Peanuts, sweet corn lay-by applications
000264-00458 | MOCAP EC Nematicide-Insecticide | Ethoprop | Peanuts, dry/snap beans, sugarcane, field/sweet corn, citrus seedlings
000264-00465 | MOCAP 10% Granular Nematicide-Insecticide | Ethoprop | Peanuts, golf course turf, sweet corn lay-by applications
000264-00469 | MOCAP (R) 20% Granular Nematicide-Insecticide | Ethoprop | Sweet corn lay-by application
000264-00599 | Ethoprop Technical | Ethoprop | Peanuts, citrus seedlings, commercial and golf course turf
000769-00898 | Pratt Triple X NA Weed Killer | Acetic acid, (2,4-D)-2-ethylhexyl ester; Prometon | Drainage ditchbanks
009779-00262 | MCPA Amine Herbicide | MCPA, dimethylamine salt | Rice
011656-00021 | Carbaryl Cutworm Bait | Carbaryl | Alfalfa and grapes
042750-00014 | MCPA Amine 4 | MCPA, dimethylamine salt | Rice
042750-00024 | MCPA Sodium Salt | MCPA, Sodium salt | Rice
Note: Company numbers 000264 and 011656 have wavied the 180-day comment period

Users of these products who desire continued use on crops or sites being deleted should contact the applicable registrant before April 22, 2002 unless indicated otherwise, to discuss withdrawal of the application for amendment. This 180-day period will also permit interested members of the public to intercede with registrants prior to the Agency's approval of the deletion.

The following Table 2 includes the names and addresses of record for all registrants of the products in Table 1, in sequence by EPA company number.

Table 2. — Registrants Requesting Voluntary Cancellation
EPA Company No. | Company Name and Address
000228 | Riverdale Chemical Co., 1333 Burr Ridge Parkway, Suite 125A, Burr Ridge, IL 60521.
000264 | Aventis Cropscience USA LP, 2 T.W. Alexander Drive, Box 12014, Research Triangle Park, NC 27709.
000769 | The Platinum Group, Agent For: Verdant Brands, Inc., 9855 W. 78th Street, Eden Prairie, MN 55344.
009779 | Agriliance, LLC, Box 64089, St. Paul, MN 55164.
011656 | Western Farm Service, Inc., Attn: Dunya Haproff-Fondse, Box 1168, Fresno, CA 93715.
042750 | Pyxis Regulatory Consulting, Agent For: Albaugh Inc., 11324 17th Ave., Ct. NW., Gig Harbor, WA 98332.

III. What is the Agency Authority for Taking This Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. How and to Whom Do I Submit Withdrawal Requests?

1. By mail: Registrants who choose to withdraw a request for use deletion must submit such withdrawal in writing to James A. Hollins, at the address given above, postmarked November 23, 2001.

2. In person or by courier: Deliver your withdrawal request to: Document Processing Desk (DPD), Information Services Branch, Office of Pesticide Programs (OPP), Environmental Protection Agency, Rm. 266A, Crystal Mall #2, 1921 Jefferson Davis Highway, Arlington, VA. The DPD is open from 8:00 a.m. to 4:30 p.m., Monday through Friday, excluding legal holidays. The DPD telephone number is (703) 305-5263.

3. Electronically. You may submit your withdrawal request electronically by e-mail to: hollins.james@epa.gov. Do not submit any information electronically that you consider to be CBI. Avoid the use of special characters and any form of encryption. Electronic submissions will be accepted in WordPerfect 6.1/8.0 or ASCII file format.

V. Provisions for Disposition of Existing Stocks

The Agency has authorized the registrants to sell or distribute product under the previously approved labeling for a period of 18 months after approval of the revision, unless other restrictions have been imposed, as in special review actions.

List of Subjects

Environmental protection, Agricultural commodities, Pesticides and pests.

Dated: October 3, 2001.
Richard D. Schmitt,
Associate Director, Information Resources and Services Division, Office of Pesticide Programs.

[FR Doc. 01-26268 Filed 10-23-01; 8:45 a.m.]

BILLING CODE 6560-50-S